DEPARTMENT OF COMMERCE

International Trade Administration

[C-423-809]

Stainless Steel Plate in Coils From Belgium: Notice of Decision of the Court of International Trade

AGENCY: Import Administration, International Trade Administration, Department of Commerce.

ACTION: Notice of decision of the court of international trade: stainless steel plate in coils from Belgium.

SUMMARY: On April 22, 2004, the Court of International Trade (“CIT”) sustained the Department of Commerce's (“the Department”) final redetermination results in all respects. See ALZ N.V. v. United States, Slip Op. 04-38, Court No. 01-00834 (CIT April 22, 2004) (ALZ v. United States). Consistent with the decision of the United States Court of Appeals for the Federal Circuit (“Federal Circuit”) in Timken Co. v. United States, 893 F.2d 337 (Fed. Cir. 1990) (Timken), the Department is notifying the public that the ALZ v. United States decision, discussed below, was “not in harmony” with the Department's original results.

The Department will continue to order the suspension of liquidation of the subject merchandise until there is a “conclusive” decision in this case. If the case is not appealed, or if it is affirmed on appeal, the Department will instruct the U.S. Customs Service to terminate the suspension of liquidation and revise the cash deposit rate for ALZ N.V. (“ALZ”) accordingly.

EFFECTIVE DATE: May 11, 2004.

FOR FURTHER INFORMATION CONTACT: Anthony Grasso, AD/CVD Enforcement, Group I, Office 1, Import Administration, U.S. Department of Commerce, 14th Street and Constitution Avenue, NW., Washington, DC 20230; telephone (202) 482-3853.

SUPPLEMENTARY INFORMATION:

Background

On July 11, 2003, the CIT remanded to the Department its determination in the first administrative review of stainless steel plate in coils from Belgium. See Stainless Steel Plate in Coils from Belgium: Final Results of Countervailing Duty Administrative Review, 66 FR 45007 (August 27, 2001) (“SS Plate from Belgium”). The countervailing duty (“CVD”) order subject to this review was issued on May 11, 1999. See Notice of Amended Final Determinations: Stainless Steel Plate in Coils from Belgium and South Africa; and Notice of Countervailing Duty Orders: Stainless Steel Plate in Coils from Belgium, Italy and South Africa, 64 FR 25288 (May 11, 1999).

In SS Plate from Belgium, applying the Department's regulations as codified at 19 CFR part 351 (2000), including the new substantive countervailing duty regulations published in the Federal Register on November 25, 1998 (66 FR 65348), the Department found the following three equity programs to be countervailable: (1) The government of Belgium's (“GOB”) purchases of Sidmar's common and preference shares in 1984; (2) the GOB's purchases of ALZ's common and preference shares in 1985; and (3) the GOB's 1985 debt-to-equity conversion for Sidmar.

In its remand order, the CIT directed the Department to: (1) Apply the equityworthiness methodology in existence at the time of the original petition to the 1984 and 1985 equity investments into Sidmar, and the 1985 equity investment into ALZ; and (2) (a) more closely scrutinize the terms of the Memorandum of Understanding regarding the purchase of Sidmar's common and preference shares to determine whether such document indicates a binding decision to invest; (b) reexamine the record for any additional evidence regarding the date upon which the government of Belgium (“GOB”) decided to invest in Sidmar's common shares; and (c) explain its reasoning for choosing the date it finds to be the date the GOB decided to invest.

To assist it in complying with the Court's instructions, on August 21, 2003, the Department issued a supplemental questionnaire to ALZ and the GOB. On September 22, 2003, ALZ and the GOB timely submitted their responses to this questionnaire.

The Department released for comment its draft final results of redetermination pursuant to the CIT's remand order (“Draft Results”) to ALZ and the GOB on November 21, 2003. The Department received no comments on the Draft Results.

The Department complied with the CIT's instructions and issued its redetermination pursuant to remand on December 10, 2003. See Final Results of Redetermination Pursuant to Court Remand: ALZ N.V. v. United States, Slip Op. 03-81, Court No. 01-00834 (CIT July 11, 2003) (“Final Results of Redetermination”). Pursuant to the CIT's remand instructions, we analyzed the information on the record as well as the information provided by ALZ and the GOB. As explained in the Final Results of Redetermination, we made changes to the Department's findings in SS Plate from Belgium in regard to the GOB's 1984 and 1985 equity infusions in Sidmar and ALZ.

On April 22, 2004, the CIT issued an order without an opinion affirming the Department's Final Results of Redetermination. See ALZ N.V. v. United States, Slip Op. 04-38, Court No. 01-00834 (CIT April 22, 2004).

Suspension of Liquidation

The U.S. Court of Appeals for the Federal Circuit, in Timken, held that the Department must publish notice of a decision of the CIT or the Federal Circuit which is not “in harmony” with the Department's Final Determination. Publication of this notice fulfills that obligation. The Federal Circuit also held that the Department must suspend liquidation of the subject merchandise until there is a “conclusive” decision in the case. Therefore, pursuant to Timken, the Department must continue to suspend liquidation pending the expiration of the period to appeal the CIT's April 22, 2004, decision or, if that decision is appealed, pending a final decision by the Federal Circuit. The Department will instruct the United States Customs and Border Protection to revise cash deposit rates and liquidate relevant entries covering the subject merchandise effective the date of publication of this notice in the Federal Register, in the event that the CIT's ruling is not appealed, or if appealed and upheld by the Court of Appeals for the Federal Circuit.

Dated: May 4, 2004.
James J. Jochum,
Assistant Secretary for Import Administration.

[FR Doc. E4-1075 Filed 5-10-04; 8:45 am]

BILLING CODE 3510-DR-P[?USGPO Galley End:?]